DEPARTMENT OF ENERGY

Federal Energy Regulatory Commission

[Docket No. AD10-12-016]

Increasing Market and Planning Efficiency Through Improved Software; Notice of Technical Conference: Increasing Real-Time and Day-Ahead Market and Planning Efficiency Through Improved Software

Take notice that Commission staff will convene a technical conference on July 8, 9, and 10, 2025 to discuss opportunities for increasing real-time and day-ahead market and planning efficiency through improved software. A detailed agenda with the list of presentation dates and times for the selected speakers will be published on the Commission's website ¹ and in eLibrary after April 16, 2025.

¹ https://www.ferc.gov/industries-data/electric/power-sales-and-markets/increasing-efficiency-through-improved-software.

This conference will bring together experts from diverse backgrounds including electric power system operators, software developers, government, research centers, and academia. The conference will bring these experts together for the purposes of stimulating discussion, sharing information, and identifying fruitful avenues for research on improving software for increased efficiency and reliability of the bulk power system.

This conference will build on discussions at prior conferences in this proceeding by focusing on topics identified as important to market efficiency in those conferences. Broadly, such topics fall into the following categories:

(1) Software for improving the resource adequacy process, including: software for improving computational tractability of resource adequacy and ease of use of resource adequacy tools, software for improving the fidelity of representing generators and loads in resource adequacy modeling, software for evaluating trade-offs between generation and transmission, software for implementing and evaluating new reliability metrics like expected unserved energy (EUE), software for implementing novel resource adequacy accreditation methods, and software for including climate change and extreme weather impacts on resource adequacy.

(2) Software for improving the efficiency of the interconnection process, including improved interconnection studies, software for automating parts of the interconnection process, software for expediting power flow analyses related to interconnection, etc.

(3) Software for implementing advanced computing methods such as artificial intelligence (AI) or machine learning into existing or novel applications for improving real-time and day-ahead market and planning efficiency.

(4) Software related to grid-enhancing technologies, such as those described in Docket Nos. AD19-19 ² and AD19-15,³ including optimal transmission switching, power flow controls, any software related to implementing the Commission's rulemaking regarding line ratings in Order No. 881,⁴ and any software related to dynamic line ratings as described in the Commission's Advance Notice of Proposed Rulemaking on dynamic line ratings in Docket No. RM24-6-000.⁵

² Grid-Enhancing Technologies, Docket No. AD19-19-000.

³ Managing Transmission Line Ratings, Docket No. AD19-15-000.

⁴ Managing Transmission Line Ratings, Order No. 881, 177 FERC ¶ 61,179 (2021).

⁵ Implementation of Dynamic Line Ratings, 187 FERC ¶ 61,201 (2024).

(5) Software for improving the performance of generating resources' ability and incentives to follow dispatch instructions and for eliminating unnecessary make-whole payments, including software for ensuring that product awards reflect prevailing transmission constraints and capabilities of resources to deliver awarded products.

(6) Software for better modeling and computation of resources with distinct operating characteristics such as storage resources, multi-stage/multi-configuration resources, hybrid resources, aggregations of Distributed Energy Resources (DERs) (including DER Management Systems, or DERMS), and others. Presentations on this topic should focus on alternative formulations and solution methods for market models.

(7) Approaches to addressing challenges, such as delays, associated with deploying software to implement market reforms or operational improvements to wholesale electricity markets.

(8) Other improvements in algorithms, model formulations, hardware advancements, or other related approaches that may allow for improvements to the bulk power system in market efficiency and enhanced reliability.

The conference will take place in a hybrid format, with presenters and attendees allowed to participate either in person or virtually. Further details on both in-person and virtual participation will be released prior to the conference.

Attendees must register through the Commission's website on or before June 10, 2025. Access to the conference (virtual or in-person) may not be available to those who do not register.

Speaker nominations must be submitted on or before March 21, 2025 through the Commission's website by providing the proposed speaker's contact information along with a title, abstract, and list of contributing authors for the proposed presentation. Proposed presentations should be related to the topics discussed above. Speakers and presentations will be selected to ensure relevance to those topics and to accommodate time constraints.

In previous years, the Commission has received nominations for more presentations than could be accommodated, and we anticipate that may be the case this year as well. Speakers are encouraged to submit new findings and novel work to ensure that the conference reflects the latest research. Presentation selections may prioritize nominations that cover topics beyond the research covered in previous years' conferences. If a nomination builds on previous years' presentation(s), authors are encouraged to explain in their abstract what new ground is being covered. Presentation proposals that involve many of the same co-authors and have similar contents may be combined into a single proposal for one presentation.

All presentations materials (e.g., presentation slides) are due no later than 5:00 p.m. EDT on June 30, 2025. Before 1:00 p.m. EDT on July 7, 2025, Commission staff will work with presenters to provide quality assurance that their presentation materials are prepared, formatted correctly, and ready for delivery during the conference. All presentation materials submitted before 1:00 p.m. on July 7, 2025 will be posted to the Commission website before the conference. Any updated presentation materials submitted after 1:00 p.m. on July 7, 2025 will be posted to the Commission website after the conference; however, the live conference may use presentation material versions submitted prior to the deadline rather than late submissions.

The Commission will accept comments following the conference, with a deadline of August 10, 2025.

There is an “eSubscription” link on the Commission's website that enables subscribers to receive email notification when a document is added to a subscribed docket(s). For assistance with any FERC Online service, please email FERCOnlineSupport@ferc.gov, or call (866) 208-3676 (toll free). For TTY, call (202) 502-8659.

FERC conferences are accessible under section 508 of the Rehabilitation Act of 1973. For accessibility accommodations please send an email to accessibility@ferc.gov or call toll free (866) 208-3372 (voice) or (202) 502-8659 (TTY), or send a fax to (202) 208-2106 with the required accommodations.

For further information about these conferences, please contact:

Sarah McKinley (Logistical Information), Office of External Affairs, (202) 502-8004, Sarah.McKinley@ferc.gov

Monica Ferrera (Technical Information), Office of Energy Policy and Innovation, (202) 502-8687, Monica.Ferrera@ferc.gov

Dated: January 29, 2025.
Debbie-Anne A. Reese,
Secretary.

[FR Doc. 2025-02226 Filed 2-4-25; 8:45 am]

BILLING CODE 6717-01-P